DEPARTMENT OF ENERGY

Federal Energy Regulatory Commission

Notice of Applications Tendered for Filing With the Commission and Establishing Procedural Schedule for Licensing and Deadline for Submission of Final Amendments

Center Rivers Power, NH LLC | Project No. 2287-053.
Center Rivers Power, NH LLC | Project No. 2288-057.
Great Lakes Hydro America, LLC | Project No. 2300-052.
Great Lakes Hydro America, LLC | Project No. 2311-067.
Great Lakes Hydro America, LLC | Project No. 2326-054.
Great Lakes Hydro America, LLC | Project No. 2327-047.
Great Lakes Hydro America, LLC | Project No. 2422-058.
Great Lakes Hydro America, LLC | Project No. 2423-031.

Take notice that the following hydroelectric applications have been filed with the Commission and are available for public inspection.

a. Type of Applications: New Major Licenses.

b. Project No.: 2287-053, 2288-057, 2300-052, 2311-067, 2326-054, 2327-047, 2422-058, 2423-031.

c. Dates Filed: July 28 and August 1, 2022.

d. Applicants: Center Rivers Power, NH LLC and Great Lakes Hydro America, LLC.

e. Name of Projects: J. Brodie Smith, Gorham, Shelburne, Upper Gorham, Cross Power, Cascade, Sawmill, and Riverside Hydroelectric Projects.

f. Location: On the Androscoggin River, in Coos County, New Hampshire.

g. Filed Pursuant to: Federal Power Act, 16 U.S.C. 791 (a)-825(r).

h. Applicant Contact: Mr. Curtis R. Mooney, Project Manager, Central Rivers Power NH, LLC, 59 Ayers Island Road, Bristol, New Hampshire 03222, (603) 744-0846.

Mr. Luke Anderson, Great Lakes Hydro America, LLC, Brookfield Renewable, 150 Main St., Lewiston, Maine, 04240, (207) 755-5613, luke.anderson@brookfieldrenewable.com.

i. FERC Contact: Ryan Hansen at (202) 502-8074 or email at ryan.hansen@ferc.gov.

j. The applications are not ready for environmental analysis at this time.

k. Project Descriptions:

Sawmill: The existing Sawmill Hydroelectric Project consists of: (1) an approximately 720-foot-long concrete dam with a maximum height of 15 feet that includes: (a) a 169-foot-long spillway section with a crest elevation of 1094.1 feet USGS; (b) a 134-foot-long, 22-foot-wide wastegate section, topped with five 18-foot-wide,13-foot-high wooden gates; (c) a 99.4-foot-long, 2-foot-high spillway section with a crest elevation of 1094.2 feet; (d) a 145-foot-long, 11-foot-high spillway section topped with permanent 21-inch-high steel flashboards and a crest elevation of 1093.2 feet; (e) a 36-foot-long, 2-foot-high spillway section with crest elevation of 1094.2 feet; and (f) a 137-foot-long spillway section topped with hinged 7.5-foot-high flashboards and a crest elevation of 1087.0 feet; (2) an impoundment with a surface area of 72.5 acres at a normal full pond elevation of 1094.5 feet; (3) a headwork structure including four 9.5-foot-wide, 12-foot-high steel wheeled gates conveying flow from the impoundment to the powerhouse; (4) a 115-foot-long, 65-foot-wide, 27-foot-high powerhouse integral to the western side of the dam containing four turbines and generators with a total installed capacity of 3.2 MW; (5) a 120-foot-long tailrace at an elevation of 1077.3 feet conveying flow from the powerhouse back to the Androscoggin River; (6) a substation located approximately 25 feet west of the powerhouse; (7) an 1,800-foot-long, 22-kilovolt (kV) transmission line connecting the substation to the regional grid; and (8) appurtenant facilities. The project creates an approximately 550-foot-long bypassed reach of the Androscoggin River.

Riverside: The existing Riverside Hydroelectric Project consists of: (1) an approximately 846-foot-long, 21-foot-high rock-filled timber and concrete dam that includes: (a) a 660-foot-long spillway consisting of a 248-foot-long concrete gravity section with 30-inch-high flashboards and a crest elevation of 1076.8 feet; (b) a 235-foot-long concrete gravity section with a maximum height of 20 feet and a crest elevation of 1076.6 feet; (c) a 177-foot-long timber crib section with 29-inch-high flashboards and a crest elevation of 1076.9 feet; and (d) an integral 91-foot-long, 33-foot-wide, 54-foot-high gatehouse; (2) an impoundment with a surface area of 7 acres at a normal full pond elevation of 1076.8 feet; (3) two 9-foot-high, 16-foot-wide headgates with trashracks with 2.5 inch spacing; (4) two 1,400-foot-long, 11-foot-diameter steel penstocks; (5) a 104-foot-long, 51-foot-wide, 80-foot-tall concrete and brick powerhouse containing two vertical Francis turbines and accompanying generators rated at 3.8 and 4.1 MW for a total installed capacity of 7.9 MW; (6) a 40-foot-long tailrace; (7) a 400-foot-long, 22-kV transmission line transmitting power from the powerhouse to the regional grid; and (8) appurtenant facilities. The project creates an approximately 2,350-foot-long bypassed reach of the Androscoggin River.

J. Brodie Smith: The existing J. Brodie Smith Hydroelectric Project consists of: (1) a 500-foot-long masonry and concrete U-shaped gravity dam with a maximum height of 24 feet that includes: (a) a 170-foot-long spillway with a crest elevation of 1003 feet and topped with 6.7-foot-high hinged steel flashboards and two 17-foot-high, 25-foot-wide steel roller-type sluice gates with a sill elevation of 993 feet; (b) a 256-foot-long spillway with a crest elevation of 1006.7 feet and topped with 3-foot-high pin supported wooden flashboards; and (c) two waste gates located immediately to the west of an opening in the flashboards; (2) an impoundment with a surface area of 8 acres at a normal headwater elevation of 1009.7 feet; (3) an intake structure consisting of a 500-foot-long by 100-foot-wide power canal fitted with trashracks; (4) a 1,440-foot-long, 18-foot-diameter steel penstock; (5) a 1.15 million gallon steel surge tank; (6) a 65-foot-long, 53-foot-wide powerhouse containing one generating unit with a rated capacity of 15 MW; (7) a 400-foot-long tailrace; (8) a 1,500-foot-long, 115-kV transmission line conveying power from the powerhouse to the regional grid; and (9) appurtenant facilities. The project creates an approximately 0.5-mile-long bypassed reach of the Androscoggin River.

Cross Power: The existing Cross Power Hydroelectric Project consists of: (1) an approximately 467-foot-long concrete and rock fill dam that includes: (a) two concrete non-overflow sections, separated by an outcropping ledge; (b) a stoplog opening; (c) a 276-foot-long, 25-foot-high spillway with a crest elevation that ranges from 918.2 feet to 921.7 feet and topped with 42-inch-high flashboards; (d) a 19-foot-wide, 124-foot-long gatehouse equipped with a 21.6-feet-wide, 18.4-feet-high trashrack in each bay; and (e) a concrete retaining wall; (2) an impoundment with a surface area of 22 acres at a normal full pond elevation of 921.7 feet USGS; (3) an original 47-foot-wide, 146-foot-long concrete and brick powerhouse with a 47-foot-wide, 50-foot-long addition on the downstream shore side that contains five propeller turbines and five horizontal generators with a combined installed capacity of 3.22 MW; (4) a 50-foot-long tailrace; (5) a 20-foot-long transmission line transmitting power from the powerhouse to a 3,750 kVA transformer located adjacent to the eastern side of the powerhouse; and (6) appurtenant facilities.

Cascade: The existing Cascade Hydroelectric Project consists of: (1) a 583-foot-long concrete gravity dam with a maximum height of 53 feet consisting of: (a) a 313-foot-long spillway section with a crest elevation of 898.4 feet fitted with 3-foot-high flashboards for a total elevation of 901.4 feet; and (b) three non-overflow abutment sections located between the spillway and forebay gate structure on each side of the dam; (2) an impoundment with a surface area of 28 acres at a normal full pond elevation of 901.4 feet; (3) an approximately 168-foot long and 15-foot-wide forebay gate structure with fourteen 9-foot-wide, 11-foot-high wooden forebay gates; (4) a 300-foot-long and 240-foot-wide forebay with a normal water surface elevation of 901.2 feet; (5) a 4-foot-wide, 2-inch-long, 6-inch-high sluiceway; (6) a 135-foot-long, 43-foot-wide, 67-foot-high powerhouse with a 41-foot-long, 16-foot-wide addition containing three Francis turbines and three generators with a combined installed capacity of 7.92 MW; (7) a 40-foot-long tailrace; (8) a 430-foot-long, 22-kV transmission line transmitting power from the powerhouse to the regional grid; and (9) appurtenant facilities. The project creates an approximately 350-foot-long bypassed reach of the Androscoggin River.

Upper Gorham: The existing Upper Gorham Hydroelectric Project consists of: (1) a 775-foot-long timber crib and earthen dam that includes: (a) a western 133-foot-long, earthen dike with concrete core wall and a crest elevation of 820.0 feet USGS; (b) a 300-foot-long, 18-foot-high rock-filled timber crib spillway section with 5-foot-high flashboards; (c) a 122-foot-long headgate section that regulates flow into the power canal; (d) a 113-foot-long by 16-foot-wide gatehouse integral with dam; (e) an eastern 220-foot-long earthen dike with concrete core wall; and (f) a headgate section containing ten 7.5-foot-wide stoplog gates fitted with trashracks; (2) an impoundment that is approximately 45 acres at a normal full pond elevation of 812.3 feet USGS; (3) a 3,350-foot-long, 220-foot-wide, 18-foot-deep excavated earthen power canal with riprap lining; (4) a 126-foot-long by 18-foot-wide gatehouse with 14 operable gates and trashracks with 3-inch clear spacing; (5) a 127-foot-long, 74-foot-wide, 26-foot-high powerhouse containing four horizontal shaft Francis turbines and four generators with a total installed capacity of 4.8 MW; (6) a 370-foot-long tailrace; (7) a 22-kV, 50-foot-long transmission line transmits power from the powerhouse to three 2500 kVA transformers sitting on a 46-foot long by 20-foot-wide transformer pad; and (8) appurtenant facilities. The project creates an approximately 1-mile-long bypassed reach of the Androscoggin River.

Gorham: The existing Gorham Hydroelectric Project consists of: (1) a 417-foot-long, 20-foot-high timber crib, L-shaped dam that includes: (a) a 90-foot-long spillway topped with a 12-inch-long, 12-inch-wide wooden flashboard with a crest elevation of 772.2 feet (b) a 252-foot-long spillway topped with 5.4-foot-high hinged wooden flashboards; (c) a 15-foot-wide sluice gate; and (d) a 75-foot-long reinforced concrete sluiceway topped with 5.33 foot-high hinged wooden flashboards; (2) an impoundment with a surface area of 32 acres; (3) a 415-foot-long, 60-foot-wide, 20-foot-deep earthen power canal conveying flow from the impoundment to the powerhouse; (4) a 37.8-foot-long, 27.1-foot-wide powerhouse containing two vertical Francis turbines and two generators with a total installed capacity of 2.15 MW; (5) an 850-foot-long tailrace; (6) a 200-foot-long, 33-kV transmission line that transmits power from the powerhouse to a nearby substation; and (6) appurtenant facilities. The project creates an approximately 850-foot-long bypassed reach of the Androscoggin River

Shelburne: The existing Shelburne Hydroelectric Project consists of: (1) a 51-foot-long concrete gravity dam that includes: (a) a 70-foot-long, 3-foot-wide concrete retaining wall along the northern shore of the Androscoggin River; (b) a 171-foot-long gated spillway section comprised of an 83-foot-long section with 9-foot-high hinged steel and wood flashboards; (c) an 88-foot-long section containing three 25-foot-long, 10-foot-high wastegates separated by 5-foot-wide concrete piers; and (d) a 27-foot-wide sluiceway; (2) an impoundment with a surface area of approximately 250 acres at the normal full pond elevation of 734.2 feet; (3) 259 feet of dikes along the south shore of the impoundment; (4) a 17-foot-long by 14-foot-wide gate controller building located on the island adjacent to the sluiceway housing; (5) a 15-foot-long by 112-foot-high intake conveying flow from the impoundment to the powerhouse fitted with a steel bar trashrack with 3-inch clear spacing (6) a 110-foot-long, 48.6-foot-wide powerhouse integral with the dam containing three turbines and generators a total installed capacity of 3.72 MW; (7) a 130-foot-long tailrace; (8) a 5.5-mile-long, 22-kV transmission line conveying power from the powerhouse to the regional grid; and (9) appurtenant facilities.

l. Location of the Applications: In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5679). For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Issue Deficiency Letter (if necessary) | September 2022.
Issue Additional Information Request (if necessary) | October 2022.
Notice of Acceptance/Notice of Ready for Environmental Analysis | December 2022.
Filing of recommendations, preliminary terms and conditions, and fishway prescriptions | February 2023.

o. Final amendments to the application must be filed with the Commission no later than 30 days from the issuance date of the notice of ready for environmental analysis.

Dated: August 16, 2022.
Kimberly D. Bose,
Secretary.

[FR Doc. 2022-18067 Filed 8-19-22; 8:45 am]

BILLING CODE 6717-01-P